COMMITTEE FOR THE IMPLEMENTATION OF TEXTILE AGREEMENTS

Request for Public Comments on Commercial Availability Petition under the United States - Andean Trade Promotion and Drug Eradication Act (ATPDEA)

November 21, 2005.

AGENCY: Committee for the Implementation of Textile Agreements (CITA).

ACTION: Request for public comments concerning a petition for a determination that certain 100 percent cotton, 2 x 2 twill weave, flannel fabrics cannot be supplied by the domestic industry in commercial quantities in a timely manner under the ATPDEA.

SUMMARY: On November 18, 2005, the Chairman of CITA received a petition from Oxford Industries alleging that 100 percent cotton woven flannel fabrics, made from 21 through 36 NM single ring-spun yarns, of 2 X 2 twill weave construction, weighing not more than 200 grams per square meter, classified under subheading 5208.43.00 of the Harmonized Tariff Schedule of the United States (HTSUS), cannot be supplied by the domestic industry in commercial quantities in a timely manner. The petition requests that such fabrics, for use in the manufacture of shirts, trousers, nightwear, robes and dressing gowns and woven underwear in an ATPDEA beneficiary country for export to the United States, be eligible for preferential treatment under the ATPDEA. CITA hereby solicits public comments on this petition, in particular with regard to whether these fabrics can be supplied by the domestic industry in commercial quantities in a timely manner. Comments must be submitted by December 12, 2005 to the Chairman, Committee for the Implementation of Textile Agreements, Room 3001, United States Department of Commerce, 14th and Constitution, NW., Washington, D.C. 20230.

FOR FURTHER INFORMATION CONTACT: Maria K. Dybczak, International Trade Specialist, Office of Textiles and Apparel, U.S. Department of Commerce, (202) 482-3400.

SUPPLEMENTARY INFORMATION:

Authority: Section 204 (b)(3)(B)(ii) of the ATPDEA, Presidential Proclamation 7616 of October 31, 2002, Executive Order 13277 of November 19, 2002, and the United States Trade Representative's Notice of Further Assignment of Functions of November 25, 2002.

BACKGROUND:

The ATPDEA provides for quota- and duty-free treatment for qualifying textile and apparel products. Such treatment is generally limited to products manufactured from yarns and fabrics formed in the United States or a beneficiary country. The ATPDEA also provides for quota- and duty-free treatment for apparel articles that are both cut (or knit-to-shape) and sewn or otherwise assembled in one or more ATPDEA beneficiary countries from fabric or yarn that is not formed in the United States or a beneficiary country, if it has been determined that such fabric or yarn cannot be supplied by the domestic industry in commercial quantities in a timely manner. Pursuant to Executive Order No. 13277 (67 FR 70305) and the United States Trade Representative's Notice of Redelegation of Authority and Further Assignment of Functions (67 FR 71606), the President's authority to determine whether yarns or fabrics cannot be supplied by the domestic industry in commercial quantities in a timely manner under the ATPDEA has been delegated to CITA.

On November 18, 2005, the Chairman of CITA received a petition from Oxford Industries alleging that certain 100 percent cotton woven flannel fabrics, made from 21 through 36 NM single ring-spun yarns, of 2 X 2 twill weave construction, weighing not more than 200 grams per square meter, classified under HTSUS subheading 5208.43.00, cannot be supplied by the domestic industry in commercial quantities in a timely manner and requesting quota- and duty-free treatment under the ATPDEA for such fabrics, for use in the manufacture of shirts, trousers, nightwear, robes and dressing gowns and woven underwear in an ATPDEA beneficiary country for export to the United States.

Specifications:

Fiber Content: | 100% Cotton
Weight: | not more than 200 grams/square meter
Yarn Number: | ring spun 21-36 NM
Weave: | 2 x 2 twill woven flannel
Finish: | Yarn dyed, napped on both sides

The petitioner emphasizes that the construction of the fabrics must be exactly or nearly exactly as specified or the fabrics will not be suitable for their intended uses.

CITA is soliciting public comments regarding this request, particularly with respect to whether these fabrics can be supplied by the domestic industry in commercial quantities in a timely manner. Also relevant is whether other fabrics that are supplied by the domestic industry in commercial quantities in a timely manner are substitutable for the fabrics in question for purposes of the intended use. Comments must be received no later than December 12, 2005. Interested persons are invited to submit six copies of such comments or information to the Chairman, Committee for the Implementation of Textile Agreements, room 3100, U.S. Department of Commerce, 14th and Constitution Avenue, NW., Washington, DC 20230.

If a comment alleges that these fabrics can be supplied by the domestic industry in commercial quantities in a timely manner, CITA will closely review any supporting documentation, such as a signed statement by a manufacturer of the fabric stating that it produces the fabric that is the subject of the request, including the quantities that can be supplied and the time necessary to fill an order, as well as any relevant information regarding past production.

CITA will protect any business confidential information that is marked “business confidential” from disclosure to the full extent permitted by law. CITA generally considers specific details, such as quantities and lead times for providing the subject product as business confidential. However, information such as the names of domestic manufacturers who were contacted, questions concerning the capability to manufacture the subject product, and the responses thereto should be available for public review to ensure proper public participation in the process. If this is not possible, an explanation of the necessity for treating such information as business confidential must be provided. CITA will make available to the public non-confidential versions of the request and non-confidential versions of any public comments received with respect to a request in room 3100 in the Herbert Hoover Building, 14th and Constitution Avenue, NW., Washington, DC 20230. Persons submitting comments on a request are encouraged to include a non-confidential version and a non-confidential summary.

James C. Leonard III,
Chairman, Committee for the Implementation of Textile Agreements.

[FR Doc. 05-23362 Filed 11-22-05; 2:22 pm]

BILLING CODE 3510-DS-S